DEPARTMENT OF TRANSPORTATION

Federal Aviation Administration

14 CFR Part 39

[Docket No. FAA-2008-0790; Directorate Identifier 2008-CE-042-AD]

RIN 2120-AA64

Airworthiness Directives; Cessna Aircraft Company 150 Series Airplanes

AGENCY: Federal Aviation Administration (FAA), Department of Transportation (DOT).

ACTION: Notice of proposed rulemaking (NPRM).

SUMMARY: We propose to adopt a new airworthiness directive (AD) for certain Cessna Aircraft Company 150 series airplanes with the BRS-150 Parachute System installed via Supplemental Type Certificate (STC) SA64CH. This proposed AD would require the replacement of the pick-up collar support and nylon screws for the BRS-150 Parachute System. This proposed AD results from notification by Ballistic Recovery Systems, Inc. (BRS) that the pick-up collar assembly may prematurely move off the launch tube and adversely affect rocket trajectory during deployment. We are proposing this AD to prevent premature separation of the collar. This condition could result in the parachute failing to successfully deploy.

DATES: We must receive comments on this proposed AD by September 16, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Ballistic Recovery Systems, Inc., 300 Airport Road, South Saint Paul, MN 55075-3551; telephone: (651) 457-7491; fax: (651) 457-8651.

FOR FURTHER INFORMATION CONTACT: Gregory Michalik, Senior Aerospace Engineer, Chicago Aircraft Certification Office, FAA, 2300 East Devon Avenue, Des Plaines, Illinois, 60018; telephone: (847) 294-7135; fax: (847) 294-7834; e-mail: gregory.michalik@faa.gov.

SUPPLEMENTARY INFORMATION:

Comments Invited

We invite you to send any written relevant data, views, or arguments regarding this proposed AD. Send your comments to an address listed under the ADDRESSES section. Include the docket number, “FAA-2008-0790; Directorate Identifier 2008-CE-042-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have been notified by Ballistic Recovery Systems, Inc. of a continued operational safety concern on Cessna 150 series airplanes that is similar to that which prompted AD 2007-14-03 (72 FR 37999, July 12, 2007) on the Cirrus Airplane Parachute System (CAPS), where the parachute failed to successfully deploy. We also issued AD 2008-02-18 (73 FR 4051, January 24, 2008), where a similar situation could occur on the Cessna 172 series and 182 series airplanes that are equipped with the BRS-172 and BRS-182 Parachute Systems, respectively. Testing indicates that the force of the rocket ignition and rocket blast may prematurely break the nylon pick up collar/support screws. When functioning properly the screws should not break until impacted by a flange at the rocket base. A prematurely separated collar/support may bind on the rocket as it slides down toward the flange at the base of the rocket. This may alter the direction of the rocket.

This condition, if not corrected, could result in the parachute failing to successfully deploy upon activation.

Relevant Service Information

We have reviewed Ballistic Recovery Systems, Inc. Mandatory Service Bulletin SB 2008-04-01 R1, dated April 24, 2008. The service information describes procedures for the replacement of the pick-up collar support, launch tube, and nylon screws.

FAA's Determination and Requirements of the Proposed AD

We are proposing this AD because we evaluated all information and determined the unsafe condition described previously is likely to exist or develop on other products of the same type design. This proposed AD would require the replacement of the pick-up collar support, launch tube, and nylon screws for the BRS-150 Parachute System.

Costs of Compliance

We estimate that this proposed AD would affect 6 airplanes in the U.S. registry.

We estimate the following costs to do the proposed modification:

Labor cost | Parts cost | Total cost per airplane | Total cost on U.S. operators
5 work-hours × $80 per hour = $400 | Not applicable | $400 | $2,400

Note: BRS will provide warranty credit to the extent noted in Ballistic Recovery Systems, Inc. Mandatory Service Bulletin SB 2008-04-01 R1, dated April 24, 2008.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company: Docket No. FAA-2008-0790; Directorate Identifier 2008-CE-042-AD.

Comments Due Date

(a) We must receive comments on this airworthiness directive (AD) action by September 16, 2008.

Affected ADs

(b) None.

Applicability

(c) This AD applies to Models 150, 150A, 150B, 150C, 150D, 150E, 150F, 150G, 150H, 150J, 150K, A150K, 150L, A150L, 150M, A150M, 152, and A152 airplanes that:

(1) have a BRS-150 Parachute Systems with a serial number in the range of 50001 through 50006 installed via Supplemental Type Certificate (STC) SA64CH; and

(2) are certificated in any category.

Unsafe Condition

(d) This AD results from notification by Ballistic Recovery Systems, Inc. (BRS), that the pick-up collar assembly may prematurely move off the launch tube and adversely affect rocket trajectory during deployment. We are issuing this AD to prevent premature separation of the collar. This condition could result in the parachute failing to successfully deploy.

Compliance

(e) To address this problem, you must do the following, unless already done:

Actions | Compliance | Procedures
Remove the pick-up collar support, nylon screws, and launch tube and replace with a new pick-up collar support, custom tension screws, and new launch tube | Within the next 25 hours time-in-service after the effective date of this AD | Follow BRS SB 2008-04-01 R1, dated April 24, 2008.

Alternative Methods of Compliance (AMOCs)

(f) The Manager, Chicago Aircraft Certification Office (ACO), FAA, has the authority to approve AMOCs for this AD, if requested using the procedures found in 14 CFR 39.19. Send information to ATTN: Gregory Michalik, Senior Aerospace Engineer, Chicago ACO, FAA, 2300 East Devon Avenue, Des Plaines, Illinois 60018; telephone: (847) 294-7135; fax: (847) 294-7834; e-mail: gregory.michalik@faa.gov. Before using any approved AMOC on any airplane to which the AMOC applies, notify your appropriate principal inspector (PI) in the FAA Flight Standards District Office (FSDO), or lacking a PI, your local FSDO.

Related Information

(g) To get copies of the service information referenced in this AD, contact Ballistic Recovery Systems, Inc., 300 Airport Road, South Saint Paul, MN 55075-3551; telephone: (651) 457-7491; fax: (651) 457-8651. To view the AD docket, go to U.S. Department of Transportation, Docket Operations, M-30, West Building Ground Floor, Room W12-140, 1200 New Jersey Avenue, SE., Washington, DC 20590, or on the Internet at http://www.regulations.gov.

Issued in Kansas City, Missouri, on June 30, 2008.
Kim Smith,
Manager, Small Airplane Directorate, Aircraft Certification Service.

[FR Doc. E8-16542 Filed 7-17-08; 8:45 am]

BILLING CODE 4910-13-P